DEPARTMENT OF LABOR

Office of the Assistant Secretary for Veterans' Employment and Training

Veterans' Workforce Investment Programs, Program Year 2000

AGENCY: Office of the Assistant Secretary for Veterans' Employment and Training, DOL.

ACTION: Notice of availability of funds and solicitation for grant application for Veterans' Workforce Investment Programs, Program Year 2000 (SGA 00-04).

SUMMARY: This notice set forth the procedures for obtaining a solicitation package for the operation of employment and training programs under the Public Law 105-220, Workforce Investment Act (WIA), Section 168-Veterans' Workforce Investment Program (VWIP). The solicitation and all relevant documents, forms, certifications, and assurances is available for download at the Veterans' Employment and Training Service (VETS) Internet Home page http://www.dol.gov/dol/vets/. Furthermore, the solicitation is available on diskette from the Director for Veterans' Employment and Training (DVET), USDOL, assigned in your State.

DATES: An application package and instructions for completion will be made available on or before April 28, 2000. The closing date for receipt of a completed application in response to this SGA will be no later than May 26, 2000.

ADDRESSES: Application shall be mailed to: Lisa Harvey, U.S. Department of Labor, Procurement Service Center, Room N5416, 200 Constitution Ave., NW, Washington, DC 20210.

FOR FURTHER INFORMATION CONTACT: Lisa Harvey, U.S. Department of Labor, Procurement Service Center, Telephone (202) 219-6445.

SUPPLEMENTARY INFORMATION: A introduction letter will be mailed to all State Governors to be forwarded to the State entity as determined by the Governor. The State is the eligible applicant for grants to be funded under this SGA. An application for funds under this Solicitation will be accepted only if signed by the Governor of each State or his or her designee. A Governor's designee refers to the administrative head of the agency designated by the Governor to carry out the VWIP program in the State. Only one application will be accepted from each State. A transmittal letter must contain a statement that the designee is authorized to act on behalf of the Governor and administer the VWIP.

Signed at Washington, DC, this 21st day of April 2000.
Lawrence J. Kuss,
Grant Officer, U.S. Department of Labor, Procurement Services Center.

[FR Doc. 00-10435 Filed 4-25-00; 8:45 am]

BILLING CODE 4510-79-M